DEPARTMENT OF COMMERCE

Foreign-Trade Zones Board

[B-23-2013]

Foreign-Trade Zone 93—Raleigh-Durham, North Carolina, Authorization of Production Activity, Southern Lithoplate, Inc. (Aluminum Printing Plates), Youngsville, North Carolina

On March 18, 2013, the Triangle J Council of Governments, grantee of FTZ 93, submitted a notification of proposed production activity to the Foreign-Trade Zones (FTZ) Board on behalf of Southern Lithoplate, Inc., within Site 5 of FTZ 93, in Youngsville, North Carolina.

The notification was processed in accordance with the regulations of the FTZ Board (15 CFR part 400), including notice in the Federal Register inviting public comment (78 FR 17635, 3-22-2013). The FTZ Board has determined that no further review of the activity is warranted at this time. The production activity described in the notification is authorized, subject to the FTZ Act and the Board's regulations, including Section 400.14.

Dated: July 16, 2013.
Andrew McGilvray,
Executive Secretary.

[FR Doc. 2013-17388 Filed 7-18-13; 8:45 am]

BILLING CODE 3510-DS-P